DEPARTMENT OF JUSTICE

Notice of Lodging of Consent Decree Under the Clean Air Act and the Emergency Planning and Community Right-to-Know Act

In accordance with Departmental policy, 28 CFR 50.7, notice is hereby given that on December 28, 2001, a proposed consent decree in United States v. Texaco Exploration and Production Inc. and Envirotech Inc., Case No. 2:01 CV-1050 ST, was lodged with the United States District Court for the District of Utah.

This consent decree represents a settlement of claims brought against Texaco Exploration and Production Inc. (“Texaco”) and Envirotech Inc. under section 113(b) of the Clean Air Act (“the CAA”), 42 U.S.C. 7413(b), and section 325(b)(3) of the Emergency Planning and Community Right-to-know Act (“EPCRA”), 42 U.S.C. 11045(b)(3), in a civil complaint filed concurrently with the lodging of the consent decree. The complaint alleges that Texaco violated the CAA and the New Source Performance Standards, 40 CFR part 60, subparts A and KKK, at its Aneth gas plant by filing to monitor its equipment for VOC leaks, maintain records, submit reports, test its flare, and use a thermocouple to monitor its flare's pilot flame. The complaint also alleges that Texaco and Envirotech violated the CAA and the National Emission Standards for Hazardous Air Pollutants for asbestos, 40 CFR part 61, subpart M, during the removal and disposal of asbestos-containing material at the Aneth gas plant. Finally, the complaint alleges that Texaco violated section 304 of EPCRA, 42 U.S.C. 11004, by twice failing to report the release of more than 500 pounds of sulfur dioxide from its oil and gas production field in Aneth, Utah.

Under the proposed settlement, Texaco will submit a certification that its affected facility is not in compliance with the monitoring, recordkeeping, and reporting requirements of 40 CFR part 60, subpart KKK. In addition, Texaco will pay a civil penalty of $243,725 and provide up to $51,275 in emergency response equipment and hazardous materials training to a local fire department in Montezuma Creek, Utah, as a supplemental environmental project. Envirotech will pay a civil penalty of $10,000.

The Department of Justice will receive for a period of thirty (30) days from the date of this publication comments relating to the Consent Decree. Comments should be addressed to the Assistant Attorney General, Environment and Natural Resources Division, PO Box 7611, U.S. Department of Justice, Washington, DC 20044-7611, and should refer to United States v. Texaco Exploration and Production Inc. and Envirotech Inc., DOJ Ref. 90-5-2-1-06466. A copy of all comments should also be sent to Robert D. Mullaney, U.S. Department of Justice, Environment and Natural Resources Division, Environmental Enforcement Section, 301 Howard Street, Suite 1050, San Francisco, CA 94105.

The Consent Decree may be examined at the Office of the United States Attorney, 185 South State Street, Suite 400, Salt Lake City, Utah, and at U.S. EPA Region 9, 75 Hawthorne Street, San Francisco, California. A copy of the Consent Decree may also be obtained by mail from the Consent Decree Library, PO Box 7611, U.S. Department of Justice, Washington, DC 20044-7611. In requesting a copy, please refer to United States v. Texaco Exploration and Production Inc. and Envirotech Inc., Case No. 2:01 CV-1050 ST (D. Utah), DOJ Ref. 90-5-2-1-06466, and enclose a check in the amount of $6.75 (25 cents per page reproduction cost) payable to the Consent Decree Library.

Ellen M. Mahan,
Assistant Section Chief, Environmental Enforcement Section, Environment and Natural Resources Division.

[FR Doc. 02-01176 Filed 1-16-02; 8:45 am]

BILLING CODE 4410-15-M